DEPARTMENT OF ENERGY

Federal Energy Regulatory Commission

Combined Notice of Filings #2

Take notice that the Commission received the following electric rate filings:

Docket Numbers: ER10-2331-048; ER14-630-024; ER10-2319-039; ER10-2317-039; ER13-1351-021; ER10-2330-046.

Applicants: J.P. Morgan Ventures Energy Corporation, AlphaGen Power LLC, BE Alabama LLC, BE CA LLC, Florida Power Development LLC, Utility Contract Funding, L.L.C.

Description: Notice of Non-Material Change in Status of JPMorgan Sellers.

Filed Date: 12/2/15.

Accession Number: 20151202-5154.

Comments Due: 5 p.m. ET 12/23/15.

Docket Numbers: ER16-98-001.

Applicants: Windom Transmission, LLC.

Description: Tariff Amendment: Amended Transmission and Interconnection Agreement to be effective 12/15/2015.

Filed Date: 12/2/15.

Accession Number: 20151202-5184.

Comments Due: 5 p.m. ET 12/23/15.

Docket Numbers: ER16-450-000.

Applicants: RE Columbia Two LLC.

Description: Compliance filing: Compliance Filing—RE Columbia Two Removal of Affiliate Waiver to be effective 11/1/2015.

Filed Date: 12/2/15.

Accession Number: 20151202-5142.

Comments Due: 5 p.m. ET 12/23/15.

Docket Numbers: ER16-451-000.

Applicants: KCP&L Greater Missouri Operations Company.

Description: KCP&L Greater Missouri Operations Company Notice of Cancellation of Interconnection Agreement.

Filed Date: 12/2/15.

Accession Number: 20151202-5174.

Comments Due: 5 p.m. ET 12/23/15.

Docket Numbers: ER16-452-000.

Applicants: RE Tranquillity LLC.

Description: Baseline eTariff Filing: Application and Initial BaselineTariff Filing to be effective 12/3/2015.

Filed Date: 12/2/15.

Accession Number: 20151202-5200.

Comments Due: 5 p.m. ET 12/23/15.

Docket Numbers: ER16-453-000.

Applicants: PJM Interconnection, L.L.C., Northeast Transmission Development, LLC.

Description: § 205(d) Rate Filing: NTD submits Attachment H—ATRR, Formula Rate, and Formula Protocols to be effective 2/1/2016.

Filed Date: 12/2/15.

Accession Number: 20151202-5207.

Comments Due: 5 p.m. ET 12/23/15.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: December 2, 2015.
Nathaniel J. Davis, Sr.,
Deputy Secretary.

[FR Doc. 2015-30846 Filed 12-7-15; 8:45 am]

BILLING CODE 6717-01-P